DEPARTMENT OF THE TREASURY

Office of the Comptroller of the Currency

Agency Information Collection Activities: Information Collection Renewal; Submission for OMB Review; Bank Appeals Follow-Up Questionnaire

AGENCY: Office of the Comptroller of the Currency (OCC), Treasury.

ACTION: Notice and request for comment.

SUMMARY: The OCC, as part of its continuing effort to reduce paperwork and respondent burden, invites the general public and other federal agencies to take this opportunity to comment on a continuing information collection as required by the Paperwork Reduction Act of 1995 (PRA).

In accordance with the requirements of the PRA, the OCC may not conduct or sponsor, and the respondent is not required to respond to, an information collection unless it displays a currently valid Office of Management and Budget (OMB) control number.

Currently, the OCC is soliciting comment concerning the renewal of an existing collection titled “Bank Appeals Follow-Up Questionnaire.” The OCC also is giving notice that it has submitted the collection to OMB for review.

DATES: You should submit written comments by July 9, 2018.

ADDRESSES: Commenters are encouraged to submit comments by email, if possible. You may submit comments by any of the following methods:

• Email: prainfo@occ.treas.gov.

• Mail: Legislative and Regulatory Activities Division, Office of the Comptroller of the Currency, Attention: 1557-0332, 400 7th Street SW, Suite 3E-218, Washington, DC 20219.

• Hand Delivery/Courier: 400 7th Street SW, Suite 3E-218, Washington, DC 20219.

• Fax: (571) 465-4326.

Instructions: You must include “OCC” as the agency name and “1557-0332” in your comment. In general, the OCC will publish your comment on www.reginfo.gov without change, including any business or personal information that you provide, such as name and address information, email addresses, or phone numbers. Comments received, including attachments and other supporting materials, are part of the public record and subject to public disclosure. Do not include any information in your comment or supporting materials that you consider confidential or inappropriate for public disclosure.

Additionally, please send a copy of your comments by mail to: OCC Desk Officer, 1557-0332, U.S. Office of Management and Budget, 725 17th Street NW, #10235, Washington, DC 20503 or by email to oira_submission@omb.eop.gov.

You may review comments and other related materials that pertain to this information collection¹ following the close of the 30-Day comment period for this notice by any of the following methods:

¹ On February 26, 2018, the OCC published a 60-day notice for this information collection.

• Viewing Comments Electronically: Go to www.reginfo.gov. Click on the “Information Collection Review” tab. Underneath the “Currently under Review” section heading, from the drop-down menu, select “Department of Treasury” and then click “submit.” This information collection can be located by searching by OMB control number “1557-0332” or “Bank Appeals Follow-Up Questionnaire.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

• Viewing Comments Personally: You may personally inspect comments at the OCC, 400 7th Street SW, Washington, DC. For security reasons, the OCC requires that visitors make an appointment to inspect comments. You may do so by calling (202) 649-6700 or, for persons who are deaf or hearing impaired, TTY, (202) 649-5597. Upon arrival, visitors will be required to present valid government-issued photo identification and submit to security screening in order to inspect comments.

FOR FURTHER INFORMATION CONTACT: OCC Clearance Officer, (202) 649-5490, for persons who are deaf or hearing impaired, TTY, (202) 649-5597, Legislative and Regulatory Activities Division, Office of the Comptroller of the Currency, 400 7th Street SW, Suite 3E-218, Washington, DC 20219.

SUPPLEMENTARY INFORMATION: Under the PRA (44 U.S.C. 3501-3520), federal agencies must obtain approval from OMB for each collection of information that they conduct or sponsor. “Collection of information” is defined in 44 U.S.C. 3502(3) and 5 CFR 1320.3(c) to include agency requests or requirements that members of the public submit reports, keep records, or provide information to a third party. The OCC asks that OMB extend its approval of the following collection.

Title: Bank Appeals Follow-Up Questionnaire.

OMB Control No.: 1557-0332.

Description: The OCC's Office of the Ombudsman (Ombudsman) is committed to assessing its efforts to provide a fair and expeditious appeal process to institutions under OCC supervision. To perform this assessment, it is necessary to obtain feedback from individual appellant institutions on the effectiveness of the Ombudsman's efforts to provide a fair and expeditious appeals process and suggestions to enhance the bank appeals process. For each appeal submitted, the Ombudsman uses the information gathered to assess the appeal's consistency with OCC Bulletin 2013-15, “Bank Appeals Process,” dated June 7, 2013, and to enhance its bank appeals program.

Affected Public: Businesses or other for-profit.

Estimated Number of Respondents: 15.

Estimated Annual Burden: 2.5 hours.

Frequency of Response: On occasion.

The OCC issued a notice for 60 days of comment on February 26, 2018, 83 FR 8316. No comments were received.

Comments continue to be on:

(a) Whether the collection of information is necessary for the proper performance of the functions of the OCC, including whether the information shall have practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: June 4, 2018.
Karen Solomon,
Acting Senior Deputy Comptroller and Chief Counsel.

[FR Doc. 2018-12347 Filed 6-7-18; 8:45 am]

BILLING CODE 4810-33-P